DEPARTMENT OF COMMERCE

National Oceanic and Atmospheric Administration

50 CFR Part 622

[Docket No. 140214145-5582-02]

RIN 0648-BD81

Fisheries of the Caribbean, Gulf of Mexico, and South Atlantic; Coral, Coral Reefs, and Live/Hard Bottom Habitats of the South Atlantic Region; Amendment 8; Correction

AGENCY: National Marine Fisheries Service (NMFS), National Oceanic and Atmospheric Administration (NOAA), Commerce.

ACTION: Final rule; correction.

SUMMARY: NMFS published a final rule on July 17, 2015, to, in part, implement provisions that would expand a portion of the northern boundary of the Cape Lookout Lophelia Banks Deepwater Coral Habitat Area of Particular Concern (Cape Lookout CHAPC). The final rule included coordinates for only the expansion of the Cape Lookout CHAPC instead of the coordinates for the existing CHAPC plus the expanded area. This notification corrects the coordinates for the Cape Lookout CHAPC to encompass the existing CHAPC plus the expanded area.

DATES: The correction is effective on August 17, 2015.

FOR FURTHER INFORMATION CONTACT: Karla Gore, 727-824-5305; email: karla.gore@noaa.gov.

SUPPLEMENTARY INFORMATION: On July 17, 2015, NMFS published a final rule in the Federal Register (80 FR 42423) to implement provisions for Amendment 8 to the Fishery Management Plan for Coral, Coral Reefs, and Live/Hard Bottom Habitats of the South Atlantic Region (FMP) (Amendment 8), that expands portions of the northern and western boundaries of the Oculina Bank Habitat Area of Particular Concern (HAPC) and allows transit through the Oculina Bank HAPC by fishing vessels with rock shrimp onboard; modifies vessel monitoring systems (VMS) requirements for rock shrimp fishermen transiting through the Oculina Bank HAPC; expands a portion of the western boundary of the Stetson Reefs, Savannah and East Florida Lithotherms, and Miami Terrace Deepwater Coral HAPC (Stetson-Miami Terrace CHAPC), including modifications to shrimp access area 1; and expands a portion of the northern boundary of the Cape Lookout CHAPC. The purpose of the final rule is to increase protection for deepwater coral based on new information for deepwater coral resources in the South Atlantic. The final rule is effective August 17, 2015.

Need for Correction

After the final rule published, NMFS noticed that the coordinates that describe the CHAPC for “Cape Lookout Lophelia Banks” in § 622.224(c)(1)(i) set forth only the expanded CHAPC area of 10 square miles (26 square km) and not the total area that encompasses both the existing CHAPC and the expanded area, which totals 326 square miles (844 square km). Amendment 8 and the implementing proposed and final rules are clear that the CHAPC for Cape Lookout Lophelia Banks would consist of the existing area and the expanded area. NMFS publishes this notification to correct that mistake.

Correction

In the Federal Register of July 17, 2015, in FR Doc. 2015-17617, on page 42432, in the first column, the table in § 622.224(c)(1)(i) is corrected to read as follows:

Point | North lat. | West long.
Origin | 34°24′37″ | 75°45′11″
1 | 34°10′26″ | 75°58′44″
2 | 34°05′47″ | 75°54′54″
3 | 34°21′02″ | 75°41′25″
4 | 34°23′28.998″ | 75°43′58.002″
5 | 34°27′00″ | 75°41′45″
6 | 34°27′54″ | 75°42′45″
Origin | 34°24′37″ | 75°45′11″

Authority: 16 U.S.C. 1801 et seq.

Dated: July 28, 2015.
Samuel D. Rauch III,
Deputy Assistant Administrator for Regulatory Programs, National Marine Fisheries Service.

[FR Doc. 2015-19009 Filed 8-3-15; 8:45 am]

BILLING CODE 3510-22-P